FEDERAL RETIREMENT THRIFT INVESTMENT BOARD

Notice of Board Meeting

DATES: May 24, 2022 at 10:00 a.m.

ADDRESSES: Telephonic. Dial-in (listen only) information: Number: 1-202-599-1426, Code: 399 176 570#; or via web: https://teams.microsoft.com/l/meetup-join/19%3ameeting_MTc0MDQyNDctYzE3My00NTUwLWI1ODQtOTU1MTY2NmEyM2Ji%40thread.v2/0?context=%7b%22Tid%22%3a%223f6323b7-e3fd-4f35-b43d-1a7afae5910d%22%2c%22Oid%22%3a%227c8d802c-5559-41ed-9868-8bfad5d44af9%22%7d.

FOR FURTHER INFORMATION CONTACT: Kimberly Weaver, Director, Office of External Affairs, (202) 942-1640.

SUPPLEMENTARY INFORMATION:

Board Meeting Agenda

Open Session

1. Approval of the April 26, 2022 Board Meeting Minutes

2. Approval of the October 19, 2021 ETAC Meeting Minutes

3. Monthly Reports

(a) Participant Activity Report

(b) Investment Report

(c) Legislative Report

4. Quarterly Report

(d) Metrics

5. L Funds Study

6. Converge Update

7. Office of Communications and Education Annual Report

Authority: 5 U.S.C. 552b(e)(1).

Dated: May 11, 2022.
Dharmesh Vashee,
General Counsel, Federal Retirement Thrift Investment Board.

[FR Doc. 2022-10496 Filed 5-16-22; 8:45 am]

BILLING CODE P